DEPARTMENT OF COMMERCE

National Oceanic and Atmospheric Administration

[RTID 0648-XD412]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public webinar to collect input on NOAA Fisheries' Draft Climate Governance Policy.

DATES: The meeting will be held on Monday, October 16, 2023, from 2 p.m. until 4 p.m., EDT. For agenda details, see SUPPLEMENTARY INFORMATION.

ADDRESSES: The meeting will be held via webinar. Connection information will be posted prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council (Council) will host a webinar to collect public input on NOAA Fisheries' Draft Climate Governance Policy. Comments provided during the webinar will be compiled for submission to NOAA Fisheries. Instructions for submitting written comments are available at: https://www.mafmc.org/actions/nmfs-climate-governance-policy.

In May 2023, NOAA Fisheries released a draft procedural directive titled “Guidance on Council Authority for Preparing Fishery Management Plans for Stocks that May Extend across the Geographic Areas of more than one Council, pursuant to MSA § 304(f)” (also referred to as the “Climate Governance Policy”). Under the Magnuson-Stevens Fishery Conservation and Management Act (MSA), each of the eight regional fishery management councils has responsibility for fisheries within specified geographic areas and is required to prepare and submit fishery management plans (FMPs) for fisheries that “require conservation and management.” In situations where a fishery extends beyond the geographic area of any one Council, section 304(f) of the MSA authorizes the Secretary of Commerce to either designate a single Council to prepare an FMP or require two or more Councils to prepare an FMP jointly. The draft policy is intended to provide guidance on when and how the Secretary will review and assign management authority over existing (and potentially new) fisheries found across more than one Council jurisdiction. NOAA Fisheries has stated that additional guidance is needed to address governance issues associated with climate-related shifts in stock distributions.

Given the Mid-Atlantic Council's shared regional boundaries with two other East coast Councils, as well as the number of Mid-Atlantic stocks that extend beyond the Council region boundaries, this policy has the potential to directly impact a number of Mid-Atlantic Council fishery management plans. The purpose of this webinar is to inform Mid-Atlantic Council stakeholders on the development of this draft policy, and to ensure that Council stakeholders have the opportunity to provide feedback to NOAA Fisheries on this issue.

Additional information, background documents, and instructions for providing written comments will be posted to the Council's website at: https://www.mafmc.org/actions/nmfs-climate-governance-policy.

Special Accommodations

The meeting is physically accessible to people with disabilities. Requests for sign language interpretation or other auxiliary aid should be directed to Shelley Spedden, (302) 526-5251, at least 5 days prior to the meeting date.

Authority: 16 U.S.C. 1801 et seq.

Dated: September 26, 2023.
Rey Israel Marquez,
Acting Deputy Director, Office of Sustainable Fisheries, National Marine Fisheries Service.

[FR Doc. 2023-21455 Filed 9-28-23; 8:45 am]

BILLING CODE 3510-22-P